DEPARTMENT OF COMMERCE

International Trade Administration

[A-520-804]

Certain Steel Nails From the United Arab Emirates: Rescission of 2016-2017 Antidumping Duty Administrative Review

AGENCY: Enforcement and Compliance, International Trade Administration, Department of Commerce.

SUMMARY: The Department of Commerce (Commerce) is rescinding the administrative review of the antidumping duty order on certain steel nails from the United Arab Emirates (UAE) for the period of review (POR), May 1, 2016, through April 30, 2017.

DATES: Applicable February 9, 2018.

FOR FURTHER INFORMATION CONTACT: Annathea Cook, AD/CVD Operations, Office V, Enforcement and Compliance, International Trade Administration, U.S. Department of Commerce, 1401 Constitution Avenue NW, Washington, DC 20230; telephone (202) 482-0250

SUPPLEMENTARY INFORMATION:

Background

On July 6, 2017, based on a timely request for review by Mid Continent Steel & Wire, Inc. (the petitioner), Commerce published in the Federal Register a notice of initiation of an administrative review of the antidumping duty order on certain steel nails from the UAE, covering the POR.¹ On August 2, 2017, Commerce placed evidence on the record that the antidumping duty questionnaire was undeliverable to Overseas Distribution Services, Inc., (ODS), the sole respondent subject to the review, at the address provided.² We requested an alternate address from the petitioner, but the petitioner was unable to provide one.³ Although we re-sent the questionnaire to the original and two available alternate addresses from other segments of this proceeding,⁴ it continued to be undeliverable.⁵ Moreover, for two of the failed delivery attempts, the delivery company stated the business was closed.

¹ See Initiation of Antidumping and Countervailing Duty Administrative Reviews, 82 FR 31292 (July 6, 2017); Petitioner's Letter, “Certain Steel Nails from the United Arab Emirates: Request for Administrative Review,” dated May 31, 2017.

² See Memorandum, “Certain Steel Nails from the United Arab Emirates: Tracking of Documents to Overseas Distribution Services, Inc.,” dated August 2, 2017.

³ See Petitioner's Letter, “Re: Certain Steel Nails from the United Arab Emirates: Comments on August 2, 2017 Memorandum to the File,” dated August 14, 2017.

⁴ See Memorandum, “Certain Steel Nails from the United Arab Emirates: Alternate Contact Information for Overseas Distribution Services, Inc.,” dated concurrently with this notice.

⁵ See Memorandum, “Certain Steel Nails from the United Arab Emirates: Second Tracking of Documents to Overseas Distribution Services, Inc.,” dated January 24, 2018.

On January 23, 2018, Commerce exercised its discretion to toll deadlines for the duration of the closure of the Federal Government from January 20 through 22, 2018. If the new deadline falls on a non-business day, in accordance with Commerce's practice, the deadline will become the next business day. The revised deadline for the preliminary determination of this review is now February 5, 2018.⁶

⁶ See Memorandum, “Deadlines Affected by the Shutdown of the Federal Government,” dated January 23, 2018 (Tolling Memorandum). All deadlines in this segment of the proceeding have been extended by three days.

Rescission of Administrative Review

In instances when a questionnaire is returned because of an undeliverable address and the petitioner is unable to provide an alternative address, Commerce's practice is to rescind the review of the company.⁷ While Commerce understands the concerns raised by the petitioner,⁸ it would be futile to conduct a review of a closed company. Because the questionnaire was undeliverable with indications that the business was closed, ODS being the only respondent under review, and the petitioner is unable to provide an alternative address, we are rescinding the administrative review of certain steel nails from the UAE for the 2016-2017 POR.

⁷ See, e.g., Certain Steel Concrete Reinforcing Bars from Turkey; Final Results and Rescission of Antidumping Duty Administrative Review in Part, 71 FR 65082 (November 7, 2006); Certain Frozen Warmwater Shrimp from Thailand; Partial Rescission of Antidumping Duty Administrative Review, 72 FR 50931 (September 5, 2007); Uncovered Innerspring Units from the People's Republic of China: Preliminary Results and Rescission, in Part, of the Antidumping Duty Administrative Review; 2016-2017, 82 FR 51602 (November 7, 2017).

⁸ See Petitioner's Letter, “Re: Certain Steel Nails from the United Arab Emirates: Comments on January 24, 2018 Memorandum to the File,” dated January 31, 2018.

Assessment

We will instruct U.S. Customs and Border Protection (CBP) to assess antidumping duties on all appropriate entries. Because Commerce is rescinding this administrative review in its entirety, the entries to which this administrative review pertained shall be assessed antidumping duties at rates equal to the cash deposit of estimated antidumping duties required at the time of entry, or withdrawal from warehouse, for consumption, in accordance with 19 CFR 351.212(c)(1)(i). Commerce intends to issue appropriate assessment instructions to CBP 15 days after the publication of this notice.

Notifications

This notice serves as a final reminder to importers of their responsibility under 19 CFR 351.402(f)(2) to file a certificate regarding the reimbursement of antidumping duties prior to liquidation of the relevant entries during this review period. Failure to comply with this requirement could result in Commerce's presumption that reimbursement of the antidumping duties occurred and the subsequent assessment of doubled antidumping duties.

This notice also serves as a final reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: February 5, 2018.
James Maeder,
Associate Deputy Assistant Secretary performing the duties of Deputy Assistant Secretary for Antidumping and Countervailing Duty Operations.

[FR Doc. 2018-02629 Filed 2-8-18; 8:45 am]

BILLING CODE 3510-DS-P